DEPARTMENT OF DEFENSE

Department of the Army; Corps of Engineers

Intent To Prepare a Draft Supplemental Environmental Impact Statement (DSEIS) for the Missouri River Fish and Wildlife Mitigation Project Located on the Missouri River From Sioux City, IA to the Mouth Near St. Louis, MO in the States of Iowa, Nebraska, Kansas and Missouri

AGENCY: U.S. Army Corps of Engineers, DoD.

ACTION: Notice of intent.

SUMMARY: The purpose of the DSEIS is to identify and evaluate the potential environmental impacts associated with the reauthorized Missouri River Fish and Wildlife Mitigation Project and to provide this information in the form of a Draft Supplemental Environmental Impact Statement. The reauthorized project includes the development, restoration, or enhancement of an additional 118,650 acres on individual sites purchased from willing sellers. The project study area is located along 735 miles of the Missouri River from Sioux City, Iowa to the mouth near St. Louis, Missouri. The reauthorized project is a continuation of the Missouri River Mitigation Project authorized in 1986 for 48,100 acres currently being developed on over 20 individual sites. The purpose of the mitigation project is to restore fish and wildlife habitat losses resulting from the construction and development of the Missouri River Bank Stabilization and Navigation project.

FOR FURTHER INFORMATION CONTACT: Mr. Kelly Ryan, Civil Works Branch, ATTN: CENWK-PM-CJ, U.S. Army Engineer District, Kansas City, 601 East 12th Street, Kansas City, Missouri, 64106-2896, Phone: 816-983-3324.

SUPPLEMENTARY INFORMATION: 1. The Kansas City District, Corps of Engineers, is the lead District in undertaking a DSEIS to supplement the EIS prepared for the Missouri River Fish and Wildlife Mitigation Project authorized by section 601(a) of the 1986 Water Resources Development Act (WRDA86). WRDA86 authorized 48,100 acres for mitigation. Section 334(a) of WRDA99 modifies the authority of the Mitigation Project for an additional 118,650 acres.

2. The DSEIS will evaluate the no action alternative and other reasonable alternatives that may be identified during the public scoping process. The proposed action will include the acquisition of sites from willing sellers and the construction of mitigation sites designed to develop, restore or enhance aquatic and terrestrial habitat.

3. Scoping Process

a. The DSEIS public involvement program will include nine pubic scoping meetings that will use an open house format to obtain input from Native American tribes, government agencies, non-government organizations, and the general public. Tribes, individuals, organizations, and government agencies may participate in the scoping process by written comment and/or by attending a scoping meeting. The scoping meetings will be held at the following locations.

November 13, 2001: Sidney, Iowa—Sidney Elem. School, Cafeteria, 1004 Illinois Street.

November 14, 2001: Onawa, Iowa—West Monona Community High School, Commons Area, 1314 15th Street.

November 15, 2001: St. Joseph, Missouri—St. Joseph Civic Center, Meeting Room, 100 N. 4th Street.

November 19, 2001: Blair, Nebraska—Arbor Park Elementary School, Cafeteria, 1717 Adams Street.

November 26, 2001: Leavenworth, Kansas—Riverfront Community & Convention Center, Riverview Rm, 123 S. Esplanade.

November 27, 2001: Columbia, Missouri—Columbia College, Delaney Hall Banquet Room, 600 N. 8th Street.

November 28, 2001: Lexington, Missouri—Lexington High School, Cafeteria, 2309 Aull Lane.

November 29, 2001: Plattsmouth, Nebraska—Plattsmouth High School, Commons Area, 1916 E. Hwy 34.

December 5, 2001: Washington, Missouri—Washington West Elementary, 1570 W. 5th Street.

All meetings will be held from 5 p.m. to 8:30 p.m. CST.

b. The times and locations of the meetings will also be announced in a primary paper serving each county along the river and by notice sent to parties on the mailing list maintained for this project. The Corps of Engineers encourages participation of affected Native American tribes, affected Federal, State, and local agencies, and other individuals and organizations.

c. Agency scoping and preparation of the DSEIS will be conducted with appropriate Federal and state environmental and natural resource management agencies.

4. The anticipated date of availability of the DSEIS for public review is in the spring of 2002.

Luz D. Ortiz,
Army Federal Register Liaison Officer.

[FR Doc. 01-27632 Filed 11-1-01; 8:45 am]

BILLING CODE 3710-KN-M